DEPARTMENT OF STATE

[Public Notice 4711]

Bureau of Educational and Cultural Affairs Request for Grant Proposals: To Organize a Competition To Select the U.S. Commissioner and U.S. Representative to the 2005 Venice Biennale of Visual Arts

SUMMARY: The Office of Citizen Exchanges of the Bureau of Educational and Cultural Affairs announces an open competition for U.S. public and private non-profit organizations meeting the provisions described in Internal Revenue Code Section 26 U.S.C. 501 (C) 3 to conduct an open competition to identify and recommend an American Curator(s) and Artist(s) to organize an exhibition, publications and accompanying artist and curatorial exchange program to represent the United States at the 2005 Venice Biennale of visual arts.

Important Note: This Request for Proposals contains language in the “Shipment and Deadline for Proposals” section that is significantly different from that used in the past. Please pay special attention to procedural changes as outlined.

Program Information

Overview: The Cultural Programs Division within the Bureau of Educational and Cultural Affairs welcomes proposals that directly respond to the following requirements:

1. Applicants will describe a methodology for conducting an Open Competition, notification of which reaches the broadest potential pool of prospective applicants—curators of Contemporary American art—in the United States.

2. Applicants will present a detailed timeline for the execution of the competition, including deadlines for publicizing the competition and other outreach to the field in the U.S.; deadlines for receipt of proposals; assembling a fair and objective panel of experts in the field of Contemporary American art; and managing the panel process. All work for this phase is to be completed by August 20, 2004.

3. Applicants will describe a plan for publicizing the resulting selection of a Commissioner and U.S. Representative, working cooperatively with the Cultural Programs Division of ECA to do so.

Guidelines: The grantee will work cooperatively with the designated Cultural Programs Division Program Officer to design and produce solicitation materials that articulate both the practical requirements of organizing and presenting the exhibition and the Bureau of Educational and Cultural Affairs mission of conducting educational and cultural exchange programs that promote respect and mutual understanding.

Upon receipt and review of proposals from Curators by the Cultural Programs Division Program Officer, the grantee will be responsible for distributing all Curator's proposals to panel members for their review and convening a panel meeting.

Upon approval of the panel's recommendation, the grantee will issue a Sub-grant (or multiple grants if multiple projects are selected) to the recipient curator or recipient's sponsoring organization. The Sub-grant(s) will describe the terms and conditions for organization of the official U.S. presentation at the 2005 Venice Biennale.

Upon acceptance of the terms by the Sub-grant recipient(s), the grantee will then work with the Bureau of Educational and Cultural Affairs and the Sub-grantee to oversee program planning for the exhibition. The grantee will consult with the Bureau and the artist(s) and curator(s) in the development of public education programs in which the artist, curator and other appropriate scholars from around the world can participate. The goal of these programs is to place the exhibition in context for foreign audiences and to encourage the unique opportunities for the exchange of people and ideas that Venice affords. The cost of public education programs, including administrative expenses, is not to be included in this proposal.

Applicants should anticipate a start date for this Cooperative Agreement of approximately July 15, 2004.

Ineligible Proposals

Proposals from organizations that do not meet the minimum experience and expertise criteria will be declared technically ineligible. The Bureau encourages applicants to provide maximum levels of cost sharing and funding in support of its programs. Proposals based on achieving other artistic objectives will not be accepted. Museums or arts centers that might ordinarily be applicants to the Venice Biennale competition that apply do so with the understanding that by entering into a Cooperative Agreement with the Department of State to conduct this competition they, their employees, or any others with a prior relationship in the organization will be ineligible to apply to represent the United States at the 2005 Venice Biennale.

Guidelines

Programs must comply with J-1 visa regulations. Please refer to Solicitation Package for further information. Applicant will not be required to obtain visas for participants in the Competition or the 2005 Venice Biennale.

Budget Guidelines

The Bureau anticipates awarding one grant, in an amount up to $170,000 to provide partial support for program and administrative costs required to implement the competition and follow on activities. Bureau grant guidelines require that organizations with less than four years experience in conducting international exchanges be limited to $60,000 in Bureau funding. Therefore, organizations with less than four years experience in conducting international exchanges are ineligible to apply under this competition. Of the $170,000 made available by the Office of Citizen Exchanges for this Cooperative Agreement, up to $50,000 may be allocated to the administration and publicizing of the competition and publicizing the selection. The total project budget (i.e. ECA's contribution, plus the applicant's matching support) should be at least $340,000, with a resulting award to the selected Commissioner/Artist of at least $290,000. The applicant's matching support may include, but is not limited to, funds raised from private and corporate philanthropy, individual donors or in-kind support. A complete list of contributors, and a sample agreement with potential donors must accompany the proposal. Support received under assistance awards from the U.S. Government may not be used for expenses related to fundraising.

Applicants must submit a comprehensive budget for the entire program. There must be a summary budget as well as breakdowns reflecting both administrative and program expenses. Applicants may provide separate sub-budgets for each program component, phase, location, or activity to provide clarification. Since Bureau assistance through this Cooperative Agreement constitutes only a portion of total project funding, proposals should list and provide evidence of other sources of financial and in-kind support.

Allowable costs for the program include the following:

(1) Travel Costs: Domestic airfares; transit costs; ground transportation costs. Please note, all air travel must be in compliance with the Fly America Act.

(2) Per Diem: Organizations have the option of using a flat $160/day for program participants or the published U.S. Federal per diem rates for the U.S. city in which activities take place.

(3) Consultants: Consultants may be used to provide specialized expertise. For example to design solicitation and publicity materials, or to conduct a publicity campaign.

(4) Administrative Costs: Costs necessary for the effective administration of the program may include salaries for employees of the grantee organization, benefits and other direct or indirect costs per detailed instructions in the Solicitation Package.

Please refer to the Solicitation Package for complete budget guidelines and formatting instructions.

Announcement Title and Number: All correspondence with the Bureau concerning this RFGP should reference the above title and number ECA/PE/C/CU-04-17.

FOR FURTHER INFORMATION CONTACT: The Cultural Programs Division, ECA/PE/C/CU, Room 664, U.S. Department of State, SA-44, 301 4th Street, SW., Washington, D.C. 20547, 202 203-7497, to request a Solicitation Package. The Solicitation Package contains detailed award criteria, required application forms, specific budget instructions, and standard guidelines for proposal preparation. Please specify Bureau Program Leanne Mella on all other inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's website at http://exchanges.state.gov/education/RFGPs. Please read all information before downloading.

New OMB Requirement

An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Shipment and Deadline for Proposals

Important Note: The deadline for this competition is Wednesday, June 2, 2004. In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package. The original and 12 copies of the application should be sent to: U.S. Department of State, SA-44, Bureau of Educational and Cultural Affairs, Ref.: ECA/PE/C/CU-04-17, Program Management, ECA/EX/PM, Room 534, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 62, including the oversight of Responsible Officers and Alternate Responsible Officers, screening and selection of program participants, provision of pre-arrival information and orientation to participants, monitoring of participants, proper maintenance and security of forms, record-keeping, reporting and other requirements. ECA or the Grantee (program office: please specify which) will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, when appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Program planning: Detailed agenda and relevant work plan should demonstrate substantive undertakings and logistical capacity. Agenda and plan should adhere to the program overview and guidelines described above.

2. Ability to achieve program objectives: Objectives should be reasonable, feasible, and flexible. Proposals should clearly demonstrate how the institution will meet the program's objectives and plan.

3. Support of Diversity: Proposals should demonstrate substantive support of the Bureau's policy on diversity. Achievable and relevant features should be cited in both program administration (selection of participants, program venue and program evaluation) and program content (orientation and wrap-up sessions, program meetings, resource materials and follow-up activities).

4. Institutional Capacity: Proposed personnel and institutional resources should be adequate and appropriate to achieve the program or project's goals.

5. Institution's Record/Ability: Proposals should demonstrate an institutional record of successful exchange programs, including responsible fiscal management and full compliance with all reporting requirements for past Bureau grants as determined by Bureau Grant Staff. The Bureau will consider the past performance of prior recipients and the demonstrated potential of new applicants.

6. Project Evaluation: Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

7. Cost-effectiveness: The overhead and administrative components of the proposal, including salaries and honoraria, should be kept as low as possible. All other items should be necessary and appropriate.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.”

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 28, 2004.
Patricia S. Harrison,
Assistant Secretary for Educational and Cultural Affairs, Department of State.

[FR Doc. 04-10216 Filed 5-4-04; 8:45 am]

BILLING CODE 4710-05-P